DEPARTMENT OF TRANSPORTATION

Federal Aviation Administration

14 CFR Part 39

[Docket No. FAA-2012-18033; Directorate Identifier 2004-CE-16-AD; Amendment 39-17400; AD 2004-21-08 R1]

RIN 2120-AA64

Airworthiness Directives; Cessna Aircraft Company Airplanes

AGENCY: Federal Aviation Administration (FAA), DOT.

ACTION: Final rule.

SUMMARY: We are revising an existing airworthiness directive (AD) for all Cessna Aircraft Company (Cessna) Models 190, 195 (L-126A,B,C), 195A, and 195B airplanes that are equipped with certain inboard aileron hinge brackets. That AD currently requires you to repetitively inspect the affected inboard aileron hinge brackets for cracks or corrosion and replace them if cracks or corrosion is found. Replacement with aluminum brackets would terminate the need for the repetitive inspections. This new AD retains the actions of AD 2004-21-08 while requiring future compliance following a revised service bulletin that clarifies the casting numbers and part numbers to be inspected. This AD was prompted by reports of confusion between the casting number on the aileron hinge bracket and the part number (P/N) called out in the AD. We are issuing this AD to correct the unsafe condition on these products.

DATES: This AD is effective May 9, 2013.

The Director of the Federal Register approved the incorporation by reference of a certain publication listed in the AD as of May 9, 2013.

ADDRESSES: For service information identified in this AD, contact Cessna Aircraft Company, Customer service, P.O. Box 7706, Wichita, KS 67277; telephone: (316) 517-5800; fax: (316) 517-7271; email: customercare@cessna.textron.com; Internet: http://www.cessnasupport.com. You may review copies of the referenced service information at the FAA, Small Airplane Directorate, 901 Locust, Kansas City, MO 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Gary Park, Aerospace Engineer, Wichita ACO, FAA, 1801 Airport Road, Wichita, KS 67209; phone: (316) 946-4123; fax: (316) 946-4107; email: gary.park@faa.gov.

SUPPLEMENTARY INFORMATION:

Discussion

We issued a notice of proposed rulemaking (NPRM) to amend 14 CFR part 39 to revise AD 2004-21-08, amendment 39-13828 (69 FR 62396, October 26, 2004). That AD applies to the specified products. The NPRM published in the Federal Register on January 8, 2013 (78 FR 1155). That NPRM proposed to retain the actions of AD 2004-21-08 while requiring future compliance following a revised service bulletin that clarifies the casting numbers and part numbers to be inspected.

Comments

We gave the public the opportunity to participate in developing this AD. We received no comments on the NPRM (78 FR 1155, January 8, 2013) or on the determination of the cost to the public.

Conclusion

We reviewed the relevant data and determined that air safety and the public interest require adopting the AD as proposed. We have determined that these minor changes:

• Are consistent with the intent that was proposed in the NPRM (78 FR 1155, January 8, 2013) for correcting the unsafe condition; and

• Do not add any additional burden upon the public than was already proposed in the NPRM (78 FR 1155, January 8, 2013).

Costs of Compliance

We estimate that this AD affects 643 airplanes of U.S. registry.

We estimate the following costs to comply with this AD:

Estimated Costs
Action | Labor cost | Parts cost | Cost per product | Cost on U.S. operators
Inspection of the affected inboard aileron hinge brackets for cracks or corrosion | 1 work-hour × $85 per hour = $85 | Not Applicable | $85 | 643 airplanes × $85 = $54,655.

The new requirements of this AD add no additional economic burden.

We estimate the following costs to do any necessary replacements that would be required based on the results of the inspection. We have no way of determining the number of aircraft that might need these replacements:

On-condition Costs
Action | Labor cost | Parts cost | Cost per product
Replacement of left-hand (LH) brackets | 3 work-hours × $85 per hour = $255 | $1,999 | $2,254
Replacement of right-hand (RH) brackets | 3 work-hours × $85 per hour = $255 | 1,592 | 1,847
Replacement of LH and RH brackets | 6 work-hours × $85 per hour = $510 | 4,101 | 4,611

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13828 (69 FR 62396, October 26, 2004), and adding the following new AD:

2004-21-08 R1 Cessna Aircraft Company: Amendment 39-17400; Docket No. FAA-2012-18033; Directorate Identifier 2004-CE-16-AD.

(a) Effective Date

This AD is effective May 9, 2013.

(b) Affected ADs

This AD revises AD 2004-21-08, Amendment 39-13828, (69 FR 62396, October 26, 2004).

(c) Applicability

This AD affects Models 190, 195 (L-126A,B,C), 195A, and 195B airplanes, all serial numbers, that are:

(1) certificated in any category; and

(2) equipped with at least one part number (P/N) 0322709 or P/N 0322709-1 inboard aileron hinge bracket.

(d) Subject

Joint Aircraft System Component (JASC)/Air Transport Association (ATA) of America Code 2710, Aileron Control System.

(e) Unsafe Condition

This AD was first prompted by several reports of cracks and corrosion found on the magnesium aileron hinge brackets. Magnesium is known to be susceptible to corrosion. Since issuance of AD 2004-21-08 (69 FR 62396, October 26, 2004), reports of confusion between the casting number on the aileron hinge bracket and the part number called out in the AD have caused us to issue this revision to AD 2004-21-08. We are issuing this AD to correct the unsafe condition on these products.

(f) Compliance

Comply with this AD at the times specified following the procedures in Cessna Aircraft Company Single Engine Service Bulletin SEB04-1, Revision 1, dated October 3, 2012, unless already done.

(g) Credit for Actions Accomplished in Accordance With Previous Service Information

This paragraph provides credit for the actions required by paragraphs (h), (i), and (j) of this AD, if the actions were performed before the effective date of this AD using Cessna Aircraft Company Single Engine Service Bulletin SEB04-1, dated April 26, 2004. All actions performed after May 9, 2013 (the effective date of this AD) will be required following Cessna Aircraft Company Single Engine Service Bulletin SEB04-1, Revision 1, dated October 3, 2012.

(h) Inspect Each P/N 0322709 and P/N 0322709-1 Inboard Aileron Hinge Bracket or Any Other Bracket Made From Magnesium for Cracks or Corrosion

Within the next 100 hours time-in-service (TIS) after November 30, 2004 (the effective date retained from AD 2004-21-08, Amendment 39-13828 (69 FR 62396, October 26, 2004)), and repetitively thereafter at intervals not to exceed 100 hours TIS until each bracket is replaced with aluminum, inspect each P/N 0322709 and P/N 0322709-1 inboard aileron hinge bracket or any other bracket made from magnesium for cracks or corrosion.

(i) Replace Any Cracked or Corroded Inboard Aileron Hinge Bracket

Before further flight after any inspection where any cracked or corroded bracket is found, replace any cracked or corroded inboard aileron hinge.

(1) If replacement is with an FAA-approved bracket made from magnesium, do the 100-hour TIS interval repetitive inspections as required in paragraph (h) of this AD.

(2) If replacement is with an FAA-approved bracket that is made from aluminum, then no further inspections are necessary. These can be Cessna parts or non-Cessna parts.

(j) Terminating Action for the Repetitive Inspections

(1) As terminating action for the repetitive inspections, you may replace all inboard aileron hinge brackets with FAA-approved brackets that are made from aluminum (as specified in paragraph (i)(2) of this AD) regardless if any corrosion or crack is found.

(2) You may do this replacement at any time, but you must replace any corroded or cracked bracket before further flight after the applicable inspection where any corrosion or crack is found.

(k) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(3) All AMOCs approved for AD 2004-21-08 (69 FR 62396, October 26, 2004) are approved for this AD.

(l) Related Information

For more information about this AD, contact Gary Park, Aerospace Engineer, Wichita ACO, FAA, 1801 Airport Road, Wichita, KS 67209; phone: (316) 946-4123; fax: (316) 946-4107; email: gary.park@faa.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Cessna Aircraft Company Single Engine Service Bulletin SEB04-1, Revision 1, dated October 3, 2012.

(ii) Reserved.

(3) For Cessna Aircraft Company service information identified in this AD, contact Cessna Aircraft Company, Customer service, P.O. Box 7706, Wichita, KS 67277; telephone: (316) 517-5800; fax: (316) 517-7271; email: customercare@cessna.textron.com; Internet: http://www.cessnasupport.com.

(4) You may view this service information at FAA,, Small Airplane Directorate, 901 Locust, Kansas City, MO 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on March 14, 2013.
Earl Lawrence,
Manager, Small Airplane Directorate, Aircraft Certification Service.

[FR Doc. 2013-06589 Filed 4-3-13; 8:45 am]

BILLING CODE 4910-13-P